DEPARTMENT OF EDUCATION

[Docket ID ED-2025-OS-0680]

Final Priority and Definitions—Secretary's Supplemental Priority and Definitions on Meaningful Learning Opportunities

AGENCY: U.S. Department of Education.

ACTION: Final priority and definitions.

SUMMARY: The Department of Education (Department) announces a final priority and definitions for use in currently authorized discretionary grant programs or programs that may be authorized in the future. The Secretary may choose to use the entire priority for a grant program or a particular competition or use one or more of the priority's component parts. This priority and definitions augment the initial set of three Secretary's Supplemental Priorities on Evidence-Based Literacy, Educational Choice, and Returning Education to the States published as final priorities on September 9, 2025 (90 FR 43514), and the additional proposed Secretary's Supplemental Priorities on Artificial Intelligence, published as a proposed priority on July 21, 2025 (90 FR 34203); Career Pathways and Workforce Readiness, published as a proposed priority on September 25, 2025 (90 FR 46111); and Promoting Patriotic Education, published as a proposed priority on September 17, 2025 (90 FR 44788).

DATES: The final priority and definitions are effective March 16, 2026.

FOR FURTHER INFORMATION CONTACT: Zachary Rogers, U.S. Department of Education, 400 Maryland Avenue SW, Room 7W213, Washington, DC 20202-6450. Telephone: (202) 260-1144. Email: SSP@ed.gov.

If you are deaf, hard of hearing, or have a speech disability and wish to access telecommunications relay services, please dial 7-1-1.

SUPPLEMENTARY INFORMATION:

Purpose of this Regulatory Action: On September 25, 2025, the Department published a notice of a proposed supplemental priority and definitions (NPP) in the Federal Register (90 FR 46114). This final priority and definitions may be used across the Department's discretionary grant programs.

Summary of the Major Provisions of This Regulatory Action: Through this regulatory action, we establish one supplemental priority and associated definitions. Each major provision is discussed in the Public Comment section of this document.

The NPP contained background information and our reasons for proposing the priority and definitions. The Department describes the differences between the proposed priority and definitions and those established as final in this notice of final priority and definitions (NFP), as discussed in the Analysis of Comments and Changes section in this document.

Program Authority: 20 U.S.C. 1221e-3, 3474.

Public Comment: In response to our invitation in the NPP, the Department received comments from more than 40 commenters on the proposed priority and definitions.

Generally, we do not address technical and other minor changes or suggested changes that the law does not authorize us to make under applicable statutory authority. In addition, we do not address general comments regarding concerns not directly related to the proposed priority or definitions.

Analysis of Comments and Changes: An analysis of the comments and of any changes in the priority and definitions since publication of the NPP follows.

General Comments

Comments: The majority of commenters responding to the NPP were supportive of the proposed priority and definitions, including the broader focus of the priority on meaningful learning opportunities and the importance of prioritizing work related to mathematics and other subject areas outlined in the NPP. Many commenters further identified specific areas of support, such as for the focus on High-Quality Instructional Materials (HQIM), Strategic Staffing, High-Impact Tutoring, Competency-Based Education, Career-Connected Learning, and Innovative Assessment models.

Discussion: The Department appreciates the support from commenters and the discussion around the potential benefits of specific components of the priority.

Changes: None.

Comments: A few commenters discussed the benefit of meaningful learning opportunities, specifically for students with disabilities and the importance of emphasizing accessibility throughout the priority and definitions. One commenter noted how students with disabilities benefit from experiential learning, assistive technology, and reasonably accommodated learning in all settings and subject areas. A few commenters emphasized the importance of accessibility, with some encouraging that the instructional materials and assessments contemplated throughout the priority should meet Universal Design for Learning (UDL) principles. One of these commenters noted that innovations discussed in the priority must be aligned with the Individuals with Disabilities Education Act (IDEA) and Section 504 of the Rehabilitation Act of 1973 requirements.

Discussion: The Department agrees that it is important for applicants to consider the needs of students with disabilities as they respond to this grant priority and appreciate the thoughtful feedback from commenters about the best strategies for doing so. While the student groups that are the focus of this priority would be determined based on the underlying program authority, the language of the priority is designed to provide a flexible framework that can inform and support ongoing and future efforts to improve access to meaningful learning opportunities for all students, including those with disabilities. This includes promoting evidence-based practices that can be aligned with programs aimed at serving students with disabilities.

We note that projects funded through discretionary grants using this priority must already adhere to the accessibility requirements in the IDEA, the Americans with Disabilities Act of 1990 (ADA), the Age Discrimination Act of 1975, and section 504 of the Rehabilitation Act of 1973, where applicable. Therefore, the Department declines to add accessibility requirements to the priority as they would be duplicative of existing law.

Changes: None.

Comments: Several commenters recommended that the Department issue guidance or provide technical assistance to applicants and grantees responding to or implementing the priority. Commenters noted that guidance could discuss how the elements of the priority interrelate and how states can strategically focus efforts to maximize outcomes. One commenter suggested guidance specifically around part (b)(iii) related to coherence and alignment across multi-tiered systems of support.

Discussion: While we appreciate the suggestion from commenters, we decline to specify guidance regarding the priority in this document. While the Department typically provides pre-application technical assistance related to each grant competition, it is important to allow applicants the flexibility to propose project activities that best meet their local needs, based on the best available evidence appropriate for their context, rather than dictating strategies from the high-level perspective of the federal government.

Changes: None.

Comments: One commenter shared concerns regarding the Department's compliance with the Regulatory Flexibility Act (RFA), Paperwork Reduction Act (PRA), and information collection requirements. The commenter argued that the priority and definitions is economically significant and may involve additional information collection requirements that must be addressed in the NFP. The commenter requested that the Department withdraw the RFA certification and publish an Initial Regulatory Flexibility Analysis (IRFA), reevaluate the significance of the priority and definitions; and provide an assessment of costs, benefits, and alternatives, identify any new or expanded information collection requirements, and initiate PRA clearance.

Discussion: The Regulatory Impact Analysis section of the NPP explains that this priority is not economically significant and that “application submission and participation in competitive grant programs that might use this proposed priority and definitions is voluntary. We believe, based on the Department's administrative experience, that entities preparing an application would not need to expend more resources than they otherwise would have in the absence of this proposed priority. Therefore, any potential costs to applicants would be de minimis.” PRA clearance requirements would be determined if this priority is used in a grant competition, specifically in relation to the program's grant application package.

Changes: None.

Comments: One commenter urged the Department to fully fund supports under IDEA, noting the importance of these programs in providing access for students with disabilities and the opportunity that greater funding would provide to ensure additional resources are available for investing in inclusive, meaningful learning opportunities for all learners.

Discussion: The Department appreciates the commenter's advocacy for programs funded under IDEA and shares in celebrating the importance of these programs in ensuring education access for students with disabilities. Comments about funding levels for specific programs are outside the scope of this notice.

Changes: None.

Priority

Comments: Several commenters discussed the importance of educators to the success of the priority, with commenters highlighting such topics as the importance of sufficient recruitment efforts, the need for high-quality educator preparation and professional development, the opportunities in educating teachers on how to use and teach with artificial intelligence (AI), and the potential impact of elevating educator voice in program design and implementation. One commenter specifically discussed the importance of preparing and supporting Science, Technology, Engineering and Mathematics (STEM) educators.

Discussion: The Department appreciates the commenters' points about the important role of educators in providing meaningful learning opportunities to all students. We note that the priority includes several opportunities for applicants to propose projects focused on educators, if it is within the authority of the program authorization where the priority is used.

Changes: None.

Comments: Several commenters discussed the focus in the priority on the use of evidence. Commenters provided suggestions on how the Department could further prioritize or encourage the use of evidence such as through the use of logic models or continuous improvement cycles, leveraging Institute of Education Sciences (IES) practices guides, conducting formative and summative evaluations, and employing third-party evaluators and rigorous evaluation metrics. A few commenters also recommended issuing guidance to provide further clarity for the field on what investments would meet the priority or meet the definition of “evidence-based” and what types of conditions need to be present on the ground to support successful implementation. Additionally, one commenter recommended that the Department clarify whether proposed projects must meet evidence levels at the point of application or build evidence through evaluation activities and what evaluation components are required.

Discussion: The Department appreciates the commenters' interest in evidence-based practices. The Education Department General Administrative Regulations (EDGAR) provide the Department with the authority to add various components including evidence priorities, logic model requirements, and selection criteria related to evaluations and continuous improvement across Department programs. The Department will consider those decisions and their connection to the priority as appropriate based on the context of each competition where this priority may be used. We also clarify that, in a grant competition where this priority is used, activities would be reviewed for whether they meet the priority. Applicants may propose additional activities for which they would like to build evidence, if those activities are within the authority of the program authorization, or certain competitions may have additional evidence-building requirements based on program statute or competition-specific requirements.

Changes: None.

Comments: One commenter recommended that the Department amend the priority to add an additional component on projects to “support the research, development, dissemination, and evaluation of meaningful learning opportunities.”

Discussion: The Department appreciates the suggestion but notes that we do not define meaningful learning opportunities to support flexibility for implementation in multiple contexts. We believe this suggestion is therefore overly broad to include as a separate component of the priority. We do note, however, that if it is within the authority of the program authorization where the priority is used, applicants may propose activities related to research in response to more specific components of the priority included in a competition for a given program. As such, we do not believe the addition is required.

Changes: None.

Comments: One commenter suggested that the Department should revise the references to evidence tiers throughout the priority to allow evidence that demonstrates a rationale.

Discussion: The Department intentionally chose to focus on higher tiers of evidence to ensure that projects are leveraging the best possible evidence available to maximize student impact. The Department does agree with the importance of supporting innovation, however, and clarifies that projects can propose to implement additional evidence-based practices that demonstrate a rationale requirement in their project. In a grant competition where this priority is used, activities would be reviewed for whether they meet the priority. Applicants may propose additional activities for which they would like to build evidence, if those activities are allowable within the program authorization.

Changes: None.

Comments: One commenter recommended that the Department clarify that evidence-based interventions must demonstrate efficacy across the full range of achievement levels or include plans to evaluate impacts for advanced learners.

Discussion: The Department developed this priority to be applicable across a number of grant programs and settings, and we decline this suggestion to ensure that the priority remains flexible to be adapted in settings where this level of specificity may not be applicable or advised.

Changes: None.

Comments: Multiple commenters provided suggestions on how meaningful learning opportunities should be prioritized for or tailored to specific student populations, such as rural, urban, and low-income students, students of color, multilingual students, and students with disabilities. Additionally, a commenter recommended the Department should issue guidance for grantees, particularly for what investments are recommended to best serve these populations of students. A few commenters advocated for the priority to incorporate a focus on cultural and linguistic relevance and diversity of materials, arguing that these factors are shown in research to support improved student outcomes. A few commenters recommended that applicants be required to demonstrate how projects would serve various specific populations, including one commenter that identified high-potential students from underrepresented groups, such as rural students and students with disabilities. Another commenter recommended that the priority require grantees to monitor for differential impacts on subgroups of students.

Discussion: The Department appreciates the commenters' input and the emphasis on the importance of providing meaningful learning opportunities across many populations. The priority has been developed to provide a flexible framework that can be adopted into multiple discretionary grant programs. The Department will ensure that all projects funded adhere to Federal civil rights laws. The student groups that are the focus of this priority would be determined based on the underlying program authority. We also note that, relevant to rural students, the Department already has a priority available under EDGAR (34 CFR 75.227) to prioritize rural areas, if appropriate for a given grant competition. As such, the Department does not need to include a focus on rural areas in this priority because the authority already exists.

Changes: None.

Comments: A few commenters discussed the importance of afterschool and summer learning programs in promoting meaningful learning opportunities, with some commenters focusing on these programs' specific importance for promoting STEM learning. These commenters encouraged the Department to incorporate these programs into the priority and provided specific suggestions on ways to do so. Specifically, two commenters recommended adding a new component under (a)(i) focused on strategies to provide students an opportunity to participate in hands-on, engaging math activities through afterschool and summer learning programs and amending (a)(vi) under new school day schedules to include scheduling innovations focused on expanding access to quality afterschool programs that partner with community-based organizations. Both also recommended amending (c)(ii) to add a reference to leveraging afterschool and summer learning programs to advance career-connected and work-based learning. One commenter recommended incorporating out-of-school-time educators, including those who do not work directly in school-day classrooms, into professional development opportunities throughout the priority, outlining specific suggestions to incorporate these educators throughout part (a) of the priority, and modifying part (b)(iv) of the priority on high-impact tutoring to include tutoring programs that happen during afterschool programs. Finally, another commenter also recommended that the Department recognize additional entities including afterschool providers and other similar partners as eligible collaborators under this priority.

Discussion: The Department agrees that efforts to increase access to meaningful learning opportunities may occur outside of the regular school day. If it is allowable within the program authorization where the priority is used, applicants may propose services that are provided outside of the regular school day as part of their projects. The Department declines to include priority language that would prioritize out-of-school-time activities over core instruction. Additionally, the Department clarifies that eligible entities and partnership requirements vary by program and therefore declines to specify whether specific entities may be engaged as applicants or partners in this priority.

Changes: None.

Comments: A few commenters shared concerns regarding the Department's ability to carry out the priority or support grantees, arguing that the strategies in the priority are not consistent with the Department's 2025 Reduction in Force, grant or contract cancellations, or proposed budgets. One commenter specifically shared support for the Regional Educational Laboratories and What Works Clearinghouse and advocated for the Department to continue to prioritize dissemination, research, and implementation of effective instructional practices.

Discussion: As we work to realize the Department's final mission and return education to the States, it is crucial that Federal dollars are directed toward addressing the most urgent needs of students and families. This includes prioritizing meaningful learning opportunities for students informed by the best available evidence, ensuring that Federal resources are spent on strategies that have proven effective in improving student outcomes. Comments about issues such as the Reduction in Force and funding for specific programs are outside of the scope of this notice.

Changes: None.

Comments: Many commenters supported the focus on mathematics in part (a)(i) of the priority, with several commenters noting the importance of this focus in complementing the Department's earlier priority on Evidence-Based Literacy. One commenter discussed the importance of math instruction in balancing conceptual understanding, procedural fluency, and real-world application. Another noted the potential for AI to support strong math instruction and encouraged the Department to work with evidence-based commercial AI tools to understand how they can strengthen core math instruction and to inform the Department's review of grant applications including such deliverables. One commenter suggested that the priority should also explicitly elevate the subjects of science and engineering to promote STEM learning and careers beyond mathematics.

Discussion: The Department appreciates the commenters' support for improving mathematics instruction and the discussion of effective strategies and implementation considerations. The Department agrees that AI presents significant opportunities and notes that applicants may propose activities that leverage AI in response to this priority, if permitted in the programs authorizing statute. Relating to the introduction of science and engineering to this part of the priority, the Department has intentionally chosen to focus on mathematics, given the foundational importance of this subject area to student success and to address the depth of the need illustrated by recent National Assessment of Educational Progress results. We also clarify that additional STEM fields are identified in parts (a)(ii) and (a)(iii) of the priority.

Changes: None.

Comments: One commenter discussed the importance of new teachers entering the field with skills and experience already aligned to a specific state's math instruction priorities. The commenter suggested revising part (a)(i)(1) on statewide mathematics plans to focus on aligning instruction, including pre-service preparation and clinical practices for math teachers, to evidence-based practices. This commenter also recommended to further support preservice alignment with HQIM adoption goals by revising part (a)(i)(2) on HQIM adoption by including language to support partnerships between districts and educator preparation programs (EPPs) to ensure new teachers are equipped to implement HQIM.

Discussion: We note that, if it is within the authority of the program authorization where the priority is used, applicants may propose to include activities related to aligning educator preparation to statewide mathematics plans. However, to ensure that the priority is structured in a way to provide greater flexibility to applicants to develop comprehensive statewide plans responsive to their local needs, we decline to specify this alignment strategy in the priority.

Changes: None.

Commenters: In response to the proposed focus in (a)(i)(1) of supporting statewide mathematics plans and evidence-based professional development in (a)(i)(6), one commenter recommended to amend the priority to encourage applicants to use evidence that is based on meta-analyses that incorporate multiple research studies, where possible, to encourage states not to overly rely on single studies.

Discussion: The Department appreciates the feedback regarding the available evidence. We note that, if they otherwise meet the requirements for strong, moderate, or promising evidence, meta-analyses may be used by applicants. We believe it is important for the Department to be consistent in defining evidence-based practices across Department priorities, regulations, and statutes, and therefore decline to make this change specifically in this priority.

Changes: None.

Comments: A few commenters discussed the inclusion of automatic enrollment policies in part (a)(i)(3) in the priority. One commenter highlighted the potential of high-quality virtual and blended learning programs to support the higher demand for advanced mathematics courses. Another commenter advocated for concerted efforts to improve early identification and intervention, arguing that policies like automatic enrollment cannot be successful if students do not have the foundational skills to succeed. Another commenter advocated for additional research into the long-term impacts of innovative policies such as automatic enrollment.

Discussion: We appreciate the support for automatic enrollment policies outlined in the priority and the considerations identified by commenters. We clarify, as noted above, that if permitted in the program's authorizing statute, applicants may propose activities related to research to build evidence on the effectiveness of these practices.

Changes: None.

Comments: Under (a)(i)(4), which is focused on early identification and support, one commenter recommended that the Department offer funding to develop research-validated screening tools and assessments for states, including training teachers in data-based decision-making and other strategies to provide struggling learners access to grade-level content.

Discussion: The Department thanks the commenter for these points. We note that the priority does include several components that allow applicants to propose project activities related to these topics so long as they are permitted in the program's authorizing statute.

Changes: None.

Comments: A few commenters discussed the focus on evidence-based professional development in mathematics for educators in part (a)(i)(6). One commenter recommended clarifying that professional development as envisioned by the priority may be connected to specific curriculum or focused more broadly on supporting teachers' pedagogical learning on how to teach mathematics. Another commenter recommended that pre-service preparation pipelines be included in elements of the priority focused on professional development and recommended adding to part (a)(i)(6) components for the development for teacher-educators, including mathematics methods faculty, clinical supervisors, and cooperating teachers.

Discussion: The Department thanks the commenters for these suggestions. We note for clarity that part (a)(i)(6) does not specify the precise focus of evidence-based professional development that may be proposed and notes that applicants can propose activities related to the approaches suggested by the commenter if permitted in the program's authorizing statute. We also clarify that part (a)(i)(7) addresses pre-service training directly and that neither part specifies the recipients of such development or training. Further, we confirm that applicants could propose strategies related to teacher-educators as permitted in the program's authorizing statute.

Changes: None.

Comments: A few commenters responded to the focus on preservice training in part (a)(i)(7). One commenter recommended that the Department clarify whether the references to “explicit and systematic teaching strategies” and “programming to build subject matter expertise” within the priority are intended to be separate priority areas or interrelated components of preservice training. The commenter further suggested that the priority should not be limited to pre-service training but be expanded to also apply to ongoing professional learning. Another commenter recommended revising (a)(i)(7) to more explicitly connect to evidence-based teaching strategies and practice implementing HQIM. Finally, another commenter suggested that teacher preparation programs in this part focus on high-leverage practices for struggling learners, particularly for general education candidates who may receive less training on this skill than those focusing on special education.

Discussion: The Department thanks the commenters for these considerations regarding the most effective approaches to pre-service training. We clarify that the priority is written to allow applicants to focus on explicit and systematic teaching strategies for mathematics or building subject matter expertise for mathematics to provide applicants the flexibility to focus on one of these elements, or both, depending on local need. We also note that part (a)(i)(6) specifically addresses professional development for educators, which may support ongoing learning. Finally, we also agree that applicants could propose activities related to pre-service training focused on supporting general education candidates in supporting struggling learners or broadly supporting educator candidates with practice related to HQIM implementation, if permitted in the programs authorizing statute.

Changes: None.

Comments: A few commenters discussed the importance of other educator roles to the priorities, namely school leaders and paraprofessionals. Specifically, commenters cited the importance of effective building-level leadership to implementation of the strategies outlined in the priorities and the opportunity to support the educator pipeline through effective paraprofessional advancement. One commenter suggested revisions to (a)(i)(6) and (a)(iii) to include various types of educators, including paraprofessionals, principals, and other school leaders, in addition to teachers. The revisions recommended also include changes to reflect that some staff roles may support the management and implementation of math curriculum. The commenter also recommended incorporating a reference to supporting school leaders and paraprofessional advancement in (a)(iv) on strategic staffing and adding new components under parts (b) and (c) on preparation of principals and other school leaders to implement the elements of the priority in those parts. Another commenter supported adding a new component focused on building the leadership capacity of school leaders as a standalone component of the priority.

Discussion: The Department appreciates the discussion from commenters on the many educational roles that impact student access to meaningful learning opportunities. We agree that paraprofessionals and school leaders are critical to school operations and classroom instruction, and we concur with the recommendation to include such roles within part (a)(i)(6) on professional development and (a)(v) on strategic staffing initiatives. Concerning part (a)(iii) on training related to HQIM implementation, we believe the priority already allows the inclusion of these additional roles and that no changes are necessary.

Changes: We have amended (a)(1)(6) to clarify that professional development in mathematics may include paraprofessionals and other licensed educators and may include support for school leaders on implementation of mathematics instruction. We have also amended (a)(v) to expand the priority to focus on paraprofessionals in addition to teacher roles and to include support for principals and other school leaders in implementing strategic staffing models. We have also amended the definition of strategic staffing to clarify that the professional educators referenced in the definition may include paraprofessionals and other licensed educators.

Comments: Many commenters shared support for the Department's focus on expanding access to HQIM under (a)(ii) and (a)(iii). One commenter noted the importance of integrating targeted interventions with HQIM implementation. A few commenters provided feedback on supporting states, districts, and educators with implementation, through strategies such as providing additional technical assistance, encouraging districts and institutions to partner with education solution providers, and providing guidance for teacher training, supports, ongoing professional development, and planning time to implement HQIM well. Several commenters discussed the importance of accessibility for students with disabilities as noted in the general discussion above. One of these commenters noted a specific concern that not all HQIM are accessible or designed with UDL principles in mind and recommended that the priority explicitly require that they be accessible and validated for students with learning disabilities. Another commenter discussed the importance of educator preparation programs (EPPs) to the goal of strengthening mathematics instruction and recommended revising part (a)(iii) to include pre-service teachers as eligible recipients of specific training on the subject of HQIM implementation by creating a new component under (a). This new component would focus on building partnerships between EPPs and districts to align preservice preparation to district improvement efforts.

Discussion: We appreciate the discussion from commenters on the importance of access to HQIM and the suggested consideration for applicants and grantees related to implementation of these strategies. While we agree that educator preparation partnerships may be valuable in local education efforts, we do not believe a priority specific to this is necessary. If it is within the authority of the program authorization where the priority is used, applicants may propose to include such partnerships as part of their projects.

Changes: None.

Comments: Several commenters supported the inclusion of competency-based instructional models in part (a)(iv) of the priority. Commenters discussed several ways these models can be strengthened, including recommendations to prioritize interdisciplinary and hands-on learning, to name project-based learning alongside competency models to support workforce readiness, to explicitly name a focus on skill acquisition in the priority, and to highlight the potential of AI to expand the pathways through which students can master learning objectives. One commenter cautioned that competency-based models in this part, as well as strategic staffing and scheduling innovations, must align with IDEA and Section 504 requirements.

Discussion: We thank the commenters for the supportive comments. We agree that many of these approaches may be effective approaches to competency-based education and we note that, if these strategies are within the authority of the program authorization where this priority is used, applicants may propose to include them as part of their projects. Therefore, we do not believe changes to the priority are necessary.

Changes: None.

Comments: Several commenters provided feedback on the inclusion of strategic staffing in part (a)(v) of the priority. A few commenters discussed the importance of time for educators to collaborate, analyze student learning, and engage families and communities. Another commenter discussed the opportunities that strategic staffing could provide to advance personalized learning. An additional commenter discussed the role of district offices in enabling systemic improvement and urged the Department to amend (a)(v) on strategic staffing to include language allowing for a focus on district-level systemic leadership development and organizational design. Another commenter argued that the priority could be more impactful if it explicitly discussed the opportunity to leverage strong educators in the mentoring and development of in-service and pre-service educators. The commenter also recommended creating two additional components under (a)(v). Specifically, they suggest one focus on creating collaborative structure for teachers and coaches to work in partnership with staff in EPPs on clinical experiences for pre-service candidates and that the second prioritize projects that demonstrate a blending of and cohesion between resources across federal and state funding streams.

A few commenters also provided feedback on the proposed definition of Strategic Staffing connected to this priority. One commenter recommended expanding the proposed definition to clarify that teacher residents, apprentices, candidates, and tutors may be considered in the model where two or more educators share responsibility for students. Another commenter recommended that the definition be clarified further to support consistent implementation.

Discussion: The Department appreciates the thoughtful discussion from commenters related to strategic staffing initiatives. We agree that school districts may be critical to implementation of strategic staffing strategies and that additional educator roles such as tutors, apprentices, and candidates can provide great value to students. However, we believe the priority and related definition will be most effective if we remain focused on the educators most closely connected to core instruction for students, including school leaders and paraprofessionals. Pre-service preparation is addressed directly under part (a) of the priority and applicants can propose activities related to these suggestions, if permitted in program statute. We also note that applicants may propose additional activities that leverage educators such as tutors, residents, apprentices, and candidates, in addition to licensed educators, if it is permitted in the program's authorizing statute. We do not believe other changes to the priority or definition are necessary.

Changes: None.

Comments: One commenter discussed their support of the inclusion of (a)(vi) on planning or implementing a new school day schedule, noting the opportunities to build in time for high dosage tutoring and other learning opportunities for students, as well as opportunities for educators to collaborate and engage in professional learning. The commenter recommended revising this component to incorporate specific language related to educator collaboration and learning, including support from an instructional coach or administrator. Another commenter recommended that the reference to “meaningful” learning be replaced with “coherent” learning to emphasize the opportunity to leverage schedule changes to support collaboration between teachers and intervention specialists.

Discussion: We thank the commenters for their feedback and agree that the considerations may be appropriate areas of focus for applicants if within the authority of the program authorization; therefore, we do not believe changes to the priority are necessary. We also decline to change the focus from meaningful to coherent learning as we believe that meaningful learning includes instruction that is aligned and coherent. We prefer to maintain a consistent focus on meaningful learning opportunities throughout the priority.

Changes: None.

Commenter: One commenter recommended combining parts (a) and (b) of the priority on strengthening core instruction and expanding high-quality interventions and accelerations to better emphasize the importance of coherence across core classroom instruction and personalized interventions. The commenter provided several specific revisions to combine the strategies under each section to build cohesion across training, core instruction, and personalized interventions.

Discussion: We thank the commenter for the suggestions and agree with the commenter on the importance of coherence across instruction, interventions, and accelerations. However, we decline to revise the priority to combine parts (a) and (b) to preserve flexibility to adapt the priority and its component parts based on the discretionary grant program in which the priority may be used. We also note that such flexibility may allow applicants to propose activities to address multiple parts of the priority to address coherence, as suggested by the commenter, if permitted by the program's authorizing statute.

Changes: None.

Comments: Several commenters supported the Department's focus on students across the learning spectrum and discussed ways the priority could advance accelerated learning. A few commenters noted their support for strategies to support struggling learners with concurrent interventions while continuing to provide access to grade level content, rather than requiring remediation prior to moving on in sequence. One commenter noted several suggested requirements to ensure that interventions funded under part (b) of the priority are validated for students with disabilities and align with Individualized Education Program (IEP) requirements.

Another commenter discussed opportunities for the priority to strengthen educator capacity to support gifted and talented learners and recommended that the Department require or encourage grantees under the priority to include professional learning components that support teachers with differentiation for all learners; to demonstrate how EPPs or ongoing professional development continue to build these skills; and include evaluation metrics around how well teachers meet diverse learning needs.

Several commenters suggested that the Department include additional, standalone components to the priority connected to these topics. One commenter recommended that the Department add a priority component for applicants who demonstrate success in expanding access to advanced coursework, broadening the identification of gifted and talented learners, and embedding acceleration or enrichment opportunities within HQIM. Another commenter suggested inclusion of a component focused on building cross-sector community partnerships to advance STEM learning and career preparedness.

Discussion: The Department appreciates the commenters' support and recommendations to ensure the priority supports all learners and advances accelerated learning. We clarify applicants may propose activities related to the suggestions from commenters, as permitted in the program's authorizing statute. Related to evaluation metrics, the Department declines the suggestion to ensure that the priority remains flexible to be adapted in multiple settings where this level of specificity may not be applicable or advised. We also reiterate that all activities funded under this priority must adhere to existing laws and nothing in this priority changes requirements related to student IEPs.

Changes: None.

Comments: Several commenters supported the focus on personalized learning in the priority. One commenter recommended that the Department consider how this priority can be used to support innovative learning models that combine multiple learning modalities, tools, and resources to enable schools to provide personalized learning. Another commenter discussed the importance of using technology to personalize instruction, citing evidence of success of certain virtual and hybrid models.

Discussion: We thank the commenters for their feedback and agree that the considerations may be appropriate areas of focus for applicants proposing activities related to personalized learning that are permissible under the priority, if allowable under the program's authorizing statute. Therefore, we do not believe changes to the priority are necessary.

Changes: None.

Commenters: A few commenters discussed the focus on high impact tutoring under part (b)(iv). One commenter discussed the potential impact of AI to enable high-dosage tutoring strategies to scale but emphasized the importance of ensuring that AI-powered tutoring tools have demonstrated clear, evidence-based learning gains and are grounded in research. Another commenter noted the importance of fidelity to evidence-based practices for these models to be effective. One commenter recommended that part (b)(iv) on high-impact tutoring be revised to add language encouraging projects or proposals that use aspiring teachers as tutors.

Discussion: We appreciate the feedback from commenters about the supports and strategies to enable successful high-impact tutoring programs. We also appreciate the commenter's suggestion to encourage the use of aspiring teachers as tutors. We note that, if it is allowable within the program authorization where the priority is used, applicants may propose to include these activities as part of their projects.

Changes: None.

Comments: A few commenters shared support for the reference to outcomes-based contracting and grantmaking in part (b)(iv) and (v). One commenter discussed the alignment of outcomes-based contracting to the standards of evidence in the priority and its importance to the delivery of high-impact tutoring. The commenter also suggested that the Department ensure that any implementation of outcomes-based contracting outlined in the priority includes technical assistance for districts developing contracts, clear guidance on data collection and outcome measurement, support for continuous improvement structures, and protection against unintended consequences through mutual accountability provisions. Another commenter noted the opportunity this focus could have to promote a broader understanding of success if outcomes measured go beyond standardized assessment results to incorporate other indicators.

Discussion: We thank the commenters for their suggestions on how grantees may best leverage outcomes-based contracting and grantmaking to support meaningful learning opportunities. We agree that these considerations may be appropriate areas of focus for applicants proposing activities related to this area, but we do not believe it is necessary to name the specific supports as these should be determined based on local experience and need. Therefore, we do not believe changes to the priority are necessary.

Changes: None.

Comments: A few commenters discussed the focus in the priority on support for career-connected learning under part (c) of the priority and the ways in which the priority is aligned to practices in the field. One commenter noted the importance of programs that develop employability skills, not just specific technical skills, into workforce development programs. Another commenter encouraged the department to prioritize proposals that leverage multiple strategies under the priority and build on existing Career and Technical Education (CTE) infrastructure for developing integrated learning experiences. This commenter discussed programs funded through Perkins V programs as exemplars of the way that CTE naturally supports meaningful learning opportunities and encouraged the Department to seek increased appropriations for Perkins V programs, as well as provide greater weight to applications that incorporate the rigorous accountability measures used in several Perkins V programs.

Discussion: We appreciate the commenters' support for career-connected learning and CTE programs and appreciate the examples of existing programs that align with the priority. We agree that applicants responding to this priority may propose projects that focus on both employability and technical skills, if authorized under the program's authorizing statute. Comments about funding and accountability measures are outside the scope of this priority. The Department will hold grantees accountable to requirements associated with the program(s) they are receiving funds to administer.

Changes: None.

Comments: Many commenters supported the focus in the priority on advancing innovative assessment models. A few of these commenters advocated for the development and use of balanced assessment systems that incorporate ongoing, formative, comprehensive assessments beyond standardized, summative assessments and that measure learning, growth, and competencies such as critical thinking, collaboration and communication through authentic and performance-based approaches. Commenters highlighted several opportunities for innovation and greater impact, such as for cross-state collaboration to improve scalability and generalizability, assessments designed by educators in collaboration with stakeholders, and the potential for timely and actionable feedback to educators, families, and students. Other commenters discussed the potential benefits of AI-powered assessments. Another commenter recommended that the Department further clarify expectations for alignment between competency-based instruction and assessment, include implementation and evaluation studies of innovative assessments, and support states with effective implementation of the technical and operational demands of these strategies.

While most commenters supported the focus on innovative assessment, a few shared concerns or considerations for successful implementation. One commenter cautioned that the use of adaptive technology for assessments should not come at the expense of student privacy, civil rights, or transparency. Another commenter noted that the Department should specify expectations for technical quality, fairness, and accessibility and expand the language on adaptive technologies to highlight the potential to improve accessibility for students with disabilities, support linguistic diversity, and increase engagement. This commenter also suggested emphasizing the importance of early identification and ongoing monitoring with a clear methodology for using assessment data to inform interventions, accelerations, and placements. Other commenters noted that grantees under this priority should be required to demonstrate that assessments have been validated either across diverse student populations or specifically with students with disabilities.

Finally, an additional commenter suggested revising the priority under (d)(v) to ensure that innovative assessment models span multiple grade levels and also include an explicit reference to developing innovative accountability systems.

Discussion: The Department appreciates the commenters' supportive feedback on the opportunities presented by innovative assessment models and the feedback on the best strategies to develop and implement these models. We agree with many of these suggestions and note that the focus in the priority on timely and useful information, early identification and ongoing support, and assessments that accurately and fairly measure learning and progress directly addresses several of these ideas. We also note that part (d)(v) focuses on research activities and could include studies on implementation, if permissible under the program's authorizing statute. We discuss the department's approach to guidance and technical assistance elsewhere in this notice.

We appreciate the important considerations raised by commenters around implementation of innovative assessment models. We believe that the focus in the priority on assessment models that fairly and accurately measure all student's learning and progress captures the importance of validating assessments across various groups served by the applicant. We also reiterate that all projects funded through discretionary grants using the priority must already adhere to the accessibility requirements in the IDEA, the ADA, the Age Discrimination Act of 1975, and Section 504 the Rehabilitation Act of 1973, as well as requirements in the Elementary and Secondary Education Act, and civil rights and other laws, where applicable, and does not believe that changes are necessary.

Finally, while we note that applicants may propose innovative assessment models that span multiple grade levels, if permissible based on the program's authorizing statute, we do not believe it is appropriate to require all grantees to include this component in their projects. We also clarify that this priority does not alter any accountability requirements at the program or state level, and the Department will hold grantees accountable to requirements associated with the program(s) they are receiving funds to administer.

Changes: None.

Comments: A few commenters noted the connection to the Competitive Grants for State Assessment (CGSA) program and advocated for the Department to continue to support this program as a resource for states in assessment innovation. Another commenter noted the connection to the Innovative Assessment Demonstration Authority (IADA) and recommended the Department clarify the relationship to this priority.

Discussion: We appreciate the commenters' support of CGSA, and the discussion related to the connection with IADA. The Department is actively working to improve these programs and support state and local partners with implementation related to assessment. We appreciate the commenters' discussion of these programs. Comments about funding levels for specific programs are outside the scope of this notice.

Changes: None.

Comments: Several commenters shared their support for the focus on parent and family engagement in part (e), with one commenter highlighting existing tools available to support parents. Another commenter shared support for this element of the priority and noted many parents need additional opportunities, including family literacy services, to better support their child's academic growth at home and advocated for supports funded under the priority to extend beyond basic resources for families. One commenter recommended that parent-facing resources be written in plain language, available in multiple formats, and aligned with evidence-based strategies for supporting students with disabilities in reading and math.

One commenter noted their overall support for the priority but shared concerns with component (e), noting their opposition of supporting homeschooling with federal funds. The commenter instead recommended that the Department focus on students in low socio-economic status rural and urban school districts, groups they argued are most in need of support to access meaningful learning opportunities.

Discussion: The Department appreciates the commenters' advocacy for the central role of parents and families in learning. We agree parental and family involvement is crucial in improving education. We also agree that supporting families in providing meaningful at-home learning may include appropriate family literacy programs. We also clarify that while this priority could support projects focused on home-based education programs, it also could support a wide variety of strategies to engage families in their children's education. Finally, while this priority does not specifically highlight communication strategies for families, applicants may propose activities that ensure information is accessible and understandable to all families.

Changes: None.

Comments: One commenter recommended adding a component under part (e) to focus on engaging parents through workshops on financial literacy, health and wellness, and other focus areas designed to help them prepare students for careers in STEM fields.

Discussion: We appreciate this suggestion but clarify that the Department intends for the priority to remain focused on support related to core academic areas. However, applicants may propose additional activities aligned to these suggestions, if permitted in the program's authorizing statute.

Changes: None.

Comments: One commenter discussed meaningful learning in early education and recommended that the Department emphasize developmental appropriateness within the priority to ensure that strategies designed in alignment with the priority focus on ways of teaching and learning that are tailored to the age and developmental stage of the students being served. The commenter specifically discussed the importance of thematic, play-based, integrated learning for young learners and shared a recommended framework from the National Academies of Science, Engineering, and Medicine focused on early childhood learning.

Discussion: We agree with the commenter on the importance of meaningful learning opportunities in early learning settings. We emphasize that the priority is intended to be applicable across a variety of settings and therefore decline to make edits specific to early childhood. If it is within the authority of the program authorization where the priority is used, applicants may propose to design projects with a focus on early learning.

Changes: None.

Comments: One commenter suggested that applicants be required to submit sustainability plans as a part of grant applications to ensure projects endure beyond initial funding.

Discussion: We appreciate the commenter's focus on project sustainability. We note several existing EDGAR selection criteria that can be used to evaluate applications in any grant competition and focus on adequacy of resources and sustainability beyond initial grant funding, and we may use those as appropriate for the purpose of the program.

Changes: None.

Comments: One commenter shared a proposal related to a specific financial literacy product that uses pop culture to engage students. The commenter urged the Department to form a committee to implement pop culture-based financial literacy materials across K-12 schools.

Discussion: We appreciate the commenter's interest in promoting financial literacy but note that the Department does not endorse specific products.

Changes: None.

Comments: One commenter discussed the important role that Tribally Controlled Colleges and Universities (TCCUs) play in higher education and the strategies and programs in place at TCCUs that support access to meaningful learning, in alignment with the focus of the priority. The commenter recommended that the Department incorporate an option into the priority to prioritize funding to build capacity within TCCUs and invest in evidence-based professional development and expand access to HQIM and work-based learning opportunities. The commenter discussed a public-private partnership program to help improve student persistence, retention, and financial management skills and requested that the Department provide renewed funding for the program.

Discussion: We appreciate the commenter's discussion around the important role of Tribally Controlled Colleges and Universities and the examples provided of successful programs aligning to the priority. We clarify that comments focused on funding are outside the scope of this notice. While the priority does not focus on specific types of higher education institutions, we note that the Department does operate discretionary grant programs that serve TCCUs and this priority can be used in those programs, if permissible under their authorizing statute.

Changes: None.

Comments: One commenter shared concern about the priority having a disproportionate burden on small entities. The commenter recommended that the Department pursue several strategies to support small entities in accessing grants under this priority, including adopting flexibilities for small entities to meet application requirements, providing clear, objective criteria for meeting the priority and definitions, and allowing phased implementation timelines. The commenter also recommended that the priority should be optional in competitions primarily serving small or rural Local Education Agencies. A few commenters suggested that the Department provide technical assistance to smaller districts or entities to support fair competition for grant funding.

Discussion: The Department appreciates the commenter's feedback around the need to support small entities. Notices Inviting Applications (NIAs) establish the type of priority being used in a grant competition. Additionally, this NFP does not establish application requirements or selection criteria. Each NIA will establish the clear and objective criteria used to evaluate applications for funding, as well as identify any application requirements for that specific competition. The Department may adapt the priority based on the context of each grant program in which in which it is used, including considering factors such as the number of small entities that may be expected to apply. Finally, we note that the ability to establish phased implementation may vary based on each program's authorizing statute.

Changes: None.

Definitions

Comments: Several commenters provided feedback on the Department's proposed definition of HQIM to make the definition clearer or to increase its impact. Suggestions included to amend the definition to emphasize the importance of student's understanding of the goals of learning and criteria for success, to reference evidence-based, standards-aligned, and culturally sustaining resources that reflect students' and communities' lived experiences, to include evidence-based instructional guidance for differentiation, enrichment, and acceleration, to use the term “research-validated” instead of “evidence-based”, to include personalized interventions and to incorporate references to evidence-based instructional and assessment practices to reinforce coherence between curriculum, instruction, and evaluation. As noted in the general discussion summary above, a few commenters noted that it was important for HQIM to be accessible and compliant with student data privacy regulations. One recommended modifying the definition to explicitly promote accessibility for students with learning disabilities through Universal Design for Learning principles.

Discussion: The Department appreciates the commenters' suggestions on the definition for HQIM. We note that the definition currently includes a focus on providing evidence-based instructional strategies and implementation supports, embedded formative assessments, a coherent scope and sequence, and other components to promote a comprehensive package of instructional tools. However, we agree with the commenters on the importance of these topics and have amended the definition to reinforce the focus on evidence-based materials, differentiation, coherence, and clear goals for learning and criteria for success for students. Beyond this, we do not believe it is appropriate for the Department to define the types of content that should be included and instead believe these decisions should be made by those closest to local needs, supported by the best available evidence for that context. We also decline to amend the reference to “evidence-based” to maintain consistency across the notice and to other Department programs and regulations but clarifies that the Department can define a minimum evidence-level requirement in individual competitions to focus on higher levels of evidence, if appropriate. Additional discussion related to accessibility and privacy requirements is included in general comment summaries above.

Changes: We have amended the HQIM definition to include additional references to evidence, coherence, differentiation, and learning goals for students.

Comments: One commenter supported the Department's definitions of computer science and AI and discussed the importance of using AI tools ethically, transparently, and effectively and recommended the Department support AI literacy initiatives and PD to support educators to teach with and about AI. Another commenter argued that the Department's definition of computer science should be framed within a broader goal or ensuring every student develops computational thinking and data-literacy skills across all subjects.

Discussion: We thank the commenters for their discussions related to the computer science definition and the connection to AI tools. We appreciate the suggestion to broaden the definition but decline to make changes. We believe it is important for the definition to remain focused on the defining elements and foundational skills of computer science to ensure projects focused in this area reflect these key components.

Changes: None.

Comments: Several commenters suggested adopting additional definitions to complement or clarify the priority, including definitions for: meaningful learning opportunities; outcomes-based contracting or grantmaking; high ability/gifted and talented learners; competency-based education; and strong core instruction.

Discussion: The Department appreciates the suggestions from commenters for additional definitions. We intend for the priority to be applicable across a variety of grant programs and settings and so we decline to adopt additional definitions to preserve flexibility within the priority.

Changes: None.

Final Priority

The Department establishes the following priority for use in any Department discretionary grant program.

Priority:

Projects or proposals that are designed to do one or more of the following:

(a) Strengthen core instruction through one or more of the following:

(i) Improving mathematics instruction to promote student achievement through one or more of the following priority areas:

(1) Assisting states in developing comprehensive statewide plans to raise mathematics achievement that align with mathematics instruction based on strong, moderate, or promising evidence (as defined in 34 CFR 77.1);

(2) Selecting, adopting, or implementing high-quality instructional materials in mathematics;

(3) Developing and implementing pathways to accelerate conceptual understanding of mathematics or advanced mathematics coursework, including strategies like automatic enrollment that encourage participation in such pathways;

(4) Developing and implementing strategies that provide opportunities for the early identification and support for students struggling with foundational and developmental mathematics concepts;

(5) Developing and implementing strategies for the identification of gifted and talented students, including strategies for students to access higher grade-level and/or advanced placement in mathematics;

(6) Offering high-quality professional development based on strong, moderate, or promising evidence (as defined in 34 CFR 77.1) in mathematics for educators, which may include teachers, paraprofessionals, and other licensed educators or support for principals and other school leaders on managing the implementation of high-quality mathematics instruction; or

(7) Integrating explicit and systematic teaching strategies for mathematics or programming to build subject matter expertise for mathematics into preservice training for general or special education educators.

(ii) Providing or expanding access to high-quality instructional materials in one or more of the following subjects:

(1) A science, technology, engineering, or mathematics (STEM) discipline, including computer science;

(2) English Language Arts; or

(3) Social Studies.

(iii) Providing or expanding access to training on implementing high-quality instructional materials in one or more of the following subjects:

(1) A STEM discipline, including computer science;

(2) English Language Arts; or

(3) Social Studies.

(iv) Creating competency-based instructional models that provide timely and actionable insights for students, families, and educators.

(v) Creating and supporting principals and other school leaders in implementing strategic staffing models, instructional leadership roles, or developing models for teacher and paraprofessional advancement that incentivize high-performing educators with opportunities and leverage their time, resources, and talent in innovative ways to better support student learning and achievement.

(vi) Planning or implementing a new school day schedule to allow more opportunities for meaningful learning.

(b) Expand high-quality interventions or accelerated learning supports for students based on strong, moderate, or promising evidence (as defined in 34 CFR 77.1) aimed at improving student outcomes through one or more of the following priority areas:

(i) Providing remedial or accelerated learning opportunities focused on individualized, differentiated, and scaffolded supports for students to access grade-level (or above grade-level) content;

(ii) Identifying and implementing strategies for delivering effective personalized supports to all students;

(iii) Supporting states in defining, implementing, or improving statewide tiered educational frameworks that meet the varied needs of students;

(iv) Implementing, expanding, or scaling high-impact tutoring programs that occur during the regular school day, are aligned with practices to accelerate student learning in literacy and mathematics, and which include innovative delivery models or approaches, that may include outcomes-based contracting, artificial intelligence (AI), technology-enabled platforms, or strategic partnerships and staffing; or

(v) Leveraging outcomes-based contracting or grantmaking.

(c) Provide career-connected learning through one or more of the following priority areas:

(i) Providing career and academic advising and mentorship opportunities for all students;

(ii) Integrating career-connected and work-based learning into K-12 education, including approaches to help all students connect core academic instruction with real-world career skills and foster career awareness, exploration, and preparation throughout their education journey; or

(iii) Supporting vocational rehabilitation for students with disabilities (pre-employment transition services and transition services); or

(iv) Supporting States in developing, piloting, or scaling statewide plans for career-connected learning.

(d) Advance innovative assessment models through one or more of the following priority areas:

(i) Supporting the development, implementation, and scaling of new or innovative assessment models that accurately and fairly measure all student's learning and progress, including competency- and mastery-based assessments;

(ii) Supporting the development, implementation, and scaling of assessment models that provide timely and useful information to educators, students, and families to address student learning needs;

(iii) Encouraging the use of adaptive technologies for assessments;

(iv) Developing a clear methodology for early identification and subsequent ongoing support of students at-risk, students with disabilities, or gifted and talented students; or

(v) Supporting states to re-envision state assessment systems through research activities, planning, piloting, and/or scaling new or innovative assessment models.

(e) Support families in providing meaningful at-home learning, which can include providing resources, educational materials, and access to learning platforms to support student learning needs.

Types of Priorities:

When inviting applications for a competition using one or more priorities, we designate the type of each priority as absolute, competitive preference, or invitational through a competition notice. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Definitions

The Secretary establishes the following definitions for use in any Department discretionary grant program in which the final priority is used.

Computer science means the study of computers and algorithmic processes, including their principles, their hardware and software designs, theories, computational thinking, coding, analytics, applications, and Artificial Intelligence (AI).

Computer science often includes computer programming or coding as a tool to create software, including applications, games, websites, and tools to manage or manipulate data; or development and management of computer hardware and the other electronics related to sharing, securing, and using digital information. The expanding field of computer science emphasizes computational thinking and interdisciplinary problem-solving to equip students with the skills and abilities necessary to apply computation to the digital world.

Computer science does not involve using computers for everyday tasks, such as browsing the internet or using tools like word processors, spreadsheets, or presentation software. Instead, it focuses on creating and developing technology, not just utilizing it.

High-quality instructional materials (HQIM) means evidence-based, standards-aligned, content-rich instructional tools that provide a coherent scope and sequence for grade-level academic content. HQIM provide a full suite of resources for teachers, students, and families—including lesson plans, instructional units, embedded formative assessments to support a cohesive relationship between curriculum, instruction, and evaluation. HQIM utilize evidence-based instructional strategies, including guidance for differentiation, enrichment, and acceleration, and provide implementation supports for educators to ensure the learning needs of all students are met. HQIM clearly communicate the goals of leaning and criteria for success for students.

Strategic Staffing means a team-based approach to school staffing that replaces the traditional one-teacher, one-classroom model. In this model, at least two professional educators, which can include paraprofessionals and other licensed educators, share responsibility for a common roster of students during the same blocks of time in the school day. Teamed educators have differentiated roles and distributed expertise, allowing for flexible student grouping, more effective use of instructional time, and expanded career entry and advancement opportunities.

Executive Orders 12866, 13563, and 14192

Regulatory Impact Analysis: This regulatory action is not a significant regulatory action subject to review by the Office of Management and Budget under section 3(f) of Executive Order 12866. This regulatory action is not considered an “Executive Order 14192 regulatory action.” We have also reviewed this regulatory action under Executive Order 13563. We are issuing the priority and definitions only on a reasoned determination that their benefits would justify their costs. The Department believes that this regulatory action is consistent with the principles in Executive Order 13563. We also have determined that this regulatory action would not unduly interfere with State, local, and Tribal governments in the exercise of their governmental functions. In accordance with these Executive Orders, the Department has assessed the potential costs and benefits, both quantitative and qualitative, of this regulatory action. The potential costs are those resulting from statutory requirements and those we have determined are necessary for administering the Department's programs and activities.

Discussion of Costs and Benefits: The priority and definitions would impose no or minimal costs on entities that receive discretionary grant award funds from the Department. Additionally, the benefits of implementing the priority and definitions outweigh any associated costs, to the extent these de minimis costs even exist, because the priority and definitions would result in higher quality grant application submissions. Application submission and participation in competitive grant programs that might use the priority and definitions is voluntary. We believe, based on the Department's administrative experience, that entities preparing an application would not need to expend more resources than they otherwise would have in the absence of the priority and definitions. Because the costs of carrying out activities would be paid for with program funds, the costs of implementation would not be a burden for any eligible applicants that earn a grant award, including small entities.

Intergovernmental Review: This action is subject to Executive Order 12372 and the regulations in 34 CFR part 79. This document provides early notification of our specific plans and actions for this program.

Regulatory Flexibility Act Certification: This section considers the effects that the final regulations may have on small entities in the educational sector as required by the Regulatory Flexibility Act, 5 U.S.C. 601 et seq. The Secretary certifies that this regulatory action would not have a substantial economic impact on a substantial number of small entities. The U.S. Small Business Administration Size Standards define proprietary institutions as small businesses if they are independently owned and operated, are not dominant in their field of operation, and have total annual revenue below $7,000,000. Nonprofit institutions are defined as small entities if they are independently owned and operated and not dominant in their field of operation. Public institutions are defined as small organizations if they are operated by a government overseeing a population below 50,000.

Paperwork Reduction Act: The priority and definitions do not contain information collection requirements or affect currently approved data collections.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or another accessible format.

Electronic Access to This Document: The official version of this document is the document published in the Federal Register. You may access the official edition of the Federal Register and the Code of Federal Regulations at www.govinfo.gov. You may also access documents of the Department published in the Federal Register by using the article search feature at www.federalregister.gov.

Linda McMahon,
Secretary of Education.

[FR Doc. 2026-02854 Filed 2-11-26; 8:45 am]

BILLING CODE 4000-01-P